DEPARTMENT OF HEALTH AND HUMAN SERVICES

Opportunity for Cosponsorship of the President's Challenge Physical Activity and Fitness Awards Program

AGENCY: Department of Health and Human Services, Office of the Secretary, Office of Public Health and Science, Office of the President's Council on Physical Fitness and Sports.

ACTION: Notice.

SUMMARY: The Office of the President's Council on Physical Fitness and Sports (PCPFS) announces the opportunity for both non-Federal public and private sector entities to cosponsor activities related to the President's Challenge Physical Activity and Fitness Awards Program. Potential cosponsors must have a demonstrated interest in physical activity/fitness and/or sports and be willing to participate substantively in the cosponsored activity.

DATES: To receive consideration, a request to participate as a cosponsor must be received by the close of business on April 7, 2003, at the address listed. Requests will meet the deadline if they are either (1) received on or before the deadline date; or (2) postmarked on or before the deadline date. Private metered postmarks will not be acceptable as proof of timely mailing. Hand-delivered requests must be received by 5 p.m. Requests that are received after the deadline date will be returned to the sender.

ADDRESSES: Notifications of interest in a cosponsorship should be sent to Christine Spain, Director of Research, Planning and Special Projects, Office of the President's Council on Physical Fitness and Sports, Hubert H. Humphrey Building, Room 738-H, 200 Independence Avenue, SW., Washington, DC 20201; Ph: (202) 690-5148, Fax: (202) 690-5211. Notifications may also be submitted by electronic mail to cspain@osophs.dhhs.gov.

FOR FURTHER INFORMATION CONTACT: Christine Spain, Director of Research, Planning and Special Projects, Office of the President's Council on Physical Fitness and Sports, Hubert H. Humphrey Building, Room 738-H, 200 Independence Avenue, SW., Washington, DC 20201; Ph: (202) 690-5148, Fax: (202) 690-5211, Email: cspain@osophs.dhhs.gov.

SUPPLEMENTARY INFORMATION:

Background

The PCPFS was established by the President of the United States and operates under Executive Order No. 13265. The Secretary, through the Office of the PCPFS, receives recommendations from the Council and is developing and coordinating a national program to enhance physical activity and sports programs. Section (1)(b) of the Executive Order (EO) provides that the Office of the PCPFS will “enhance coordination of programs within and among the private and public sectors that promote the participation in, and safe and easy access to, physical activity/fitness and sports.” In addition, the Office of the PCPFS is directed by section (1)(c) of the EO to “expand availability of quality information and guidance regarding physical activity and sports participation.” Through the authority of section 1704 of the Public Health Service Act, the Office of PCPFS may support and “encourage others to support” activities related to health information and promotion, including the publication of information and securing the cooperation of communication media.

The purpose of the President's Challenge Physical Activity and Fitness Awards Program (the Program) is to motivate individuals six years and older to begin and continue an active lifestyle leading to enhanced physical fitness. It has reached over 70 million children and youth since its inception in 1966. The Program now focuses on three distinct program areas: physical fitness, health fitness and active lifestyle. Adults can now participate with their children or log activities by themselves to earn the Presidential Active Lifestyle Award (PALA) and the Presidential Adult Active Lifestyle Award (PAAL). Program materials are available in both English and Spanish.

Requirements of Cosponsorship

The Office of the PCPFS is seeking a cosponsor(s) to partner in ways that accord with its particular circumstances. For example, an entity might offer to cosponsor the following proposed Program activities with the Office of PCPFS:

• A nationwide advertising campaign or public service announcement (print, TV, or radio) that would alert all individuals, including diverse media markets, to the dangers of a sedentary lifestyle and the benefits of the Program;

• A nationwide sequence of activities that would celebrate National Physical Fitness and Sports Month (including sensitivity to diverse cultures and traditions) incorporating the Program activities;

• Educational clinics and/or development and distribution of physical activity publications incorporating the Program goals and activities along with a “Challenge Tool Kit;”

• A promotion of the Program by employers to their employees;

• A Program “Road Show” celebrating physical activity and fitness by providing demonstrations and coaching lessons for all ages, focusing on Program activities; and

• The translation of Program printed and website materials to encourage increased participation.

Availability of Funds

There are no Federal funds available for this cosponsorship.

Eligibility for Cosponsorship

To be eligible, a requester must: (1) Have a demonstrated interest and understanding of physical fitness and/or sports; (2) participate substantively in the cosponsored activity (not just provide funding or logistical support); (3) have an organizational or corporate mission that is not inconsistent with the public health and safety mission of the Department; and (4) agree to sign a cosponsorship agreement with the Office of the PCPFS which will set forth the details of the cosponsored activity.

Content of Request for Cosponsorship

Each request for cosponsorship should contain a description of: (1) The entity or organization; (2) its background in promoting physical activity/fitness or sports; (3) its proposed involvement in the cosponsored activity; and (4) plan for implementation with timeline.

Evaluation Criteria

The cosponsor(s) will be selected by the Office of the PCPFS using the following evaluation criteria:

(1) Requester's qualifications and capability to fulfill cosponsorship responsibilities;

(2) Requester's creativity for enhancing the medium for program messages; and

(3) Requester's potential for reaching underserved/special populations.

Dated: March 18, 2003.
CDR Penelope Royall,
Acting Executive Director, President's Council on Physical Fitness and Sports, Department of Health and Human Services.

[FR Doc. 03-7033 Filed 3-24-03; 8:45 am]

BILLING CODE 4150-35-P